SMALL BUSINESS ADMINISTRATION

[Declaration of Disaster #3564]

State of Ohio

As a result of the President's major disaster declaration on January 26, 2004, I find that Franklin, Jefferson, Licking, Morgan, Ross, Tuscarawas and Washington Counties in the State of Ohio constitute a disaster area due to damages caused by severe storms, flooding, mudslides, and landslides occurring on January 3, 2004, and continuing. Applications for loans for physical damage as a result of this disaster may be filed until the close of business on March 26, 2004 and for economic injury until the close of business on October 26, 2004 at the address listed below or other locally announced locations: U.S. Small Business Administration, Disaster Area 2 Office, One Baltimore Place, Suite 300, Atlanta, GA 30308.

In addition, applications for economic injury loans from small businesses located in the following contiguous counties may be filed until the specified date at the above location: Athens, Belmont, Carroll, Columbiana, Coshocton, Delaware, Fairfield, Fayette, Guernsey, Harrison, Highland, Hocking, Holmes, Jackson, Knox, Madison, Monroe, Muskingum, Noble, Perry, Pickaway, Pike, Stark, Union and Vinton in the State of Ohio; and Brook, Hancock, Ohio, Pleasants, Tyler and Wood counties in the State of West Virginia.

The interest rates are:

| Percent
For Physical Damage:
Homeowners with credit available elsewhere | 6.250
Homeowners without credit available elsewhere | 3.125
Businesses with credit available elsewhere | 6.123
Businesses and non-profit organizations without credit available elsewhere | 3.061
Others (including non-profit organizations) with credit available elsewhere | 4.875
For Economic Injury:
Businesses and small agricultural cooperatives without credit available elsewhere | 3.061

The number assigned to this disaster for physical damage is 356406. For economic injury the number is 9Z2300 for Ohio; and 9Z2400 for West Virginia.

(Catalog of Federal Domestic Assistance Program Nos. 59002 and 59008).
Dated: January 28, 2004.
Herbert L. Mitchell,
Associate Administrator for Disaster Assistance.

[FR Doc. 04-2228 Filed 2-3-04; 8:45 am]

BILLING CODE 8025-01-P